DEPARTMENT OF TRANSPORTATION

Federal Aviation Administration

14 CFR Part 71

[Docket No. FAA-2017-0217; Airspace Docket No. 17-ANM-8]

Amendment of Class E Airspace; Moses Lake, WA; Olympia, WA

AGENCY: Federal Aviation Administration (FAA), DOT.

ACTION: Final rule, technical amendment.

SUMMARY: This action amends the legal descriptions of the Class E airspace area designated as an extension to a Class D airspace at Grant County International Airport (formerly Grant County Airport), Moses Lake, WA, and Olympia Regional Airport (formerly Olympia Airport), Olympia, WA, by eliminating the Notice to Airmen (NOTAM) part-time status. Also, this action updates the airport name for Grant County International Airport and Olympia Regional Airport and updates the geographic coordinates for Grant County International Airport, Moses Lake VOR/DME, and Fairchild AFB, as listed in the Grant County International Airport Class D and Class E airspace legal descriptions. This action does not affect the charted boundaries or operating requirements of the airspace.

DATES: Effective 0901 UTC, June 22, 2017. The Director of the Federal Register approves this incorporation by reference action under title 1, Code of Federal Regulations, part 51, subject to the annual revision of FAA Order 7400.11 and publication of conforming amendments.

ADDRESSES: FAA Order 7400.11A, Airspace Designations and Reporting Points, and subsequent amendments can be viewed on line at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of this material at NARA, call 202-741-6030, or go to http://www.archives.gov/federal_register/code_of_federal-regulations/ibr_locations.html.

FAA Order 7400.11, Airspace Designations and Reporting Points, is published yearly and effective on September 15.

FOR FURTHER INFORMATION CONTACT: Tom Clark, Federal Aviation Administration, Operations Support Group, Western Service Center, 1601 Lind Avenue SW., Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the legal descriptions of Class E airspace at Grant County International Airport, Moses Lake, WA, and Olympia Regional Airport, Olympia, WA, to remove the NOTAM part-time status.

History

The FAA Aeronautical Information Services branch found the Class E airspace designated as an extension to a Class D area at Grant County International Airport, Moses Lake, WA, and Olympia Regional Airport, Olympia, WA, as published in FAA Order 7400.11A, Airspace Designations and Reporting Points, does not require part-time status. The FAA also found the airport names for Grant County International Airport (formerly Grant County Airport) and Olympia Regional Airport (formerly Olympia Airport) have changed. Additionally, after a review, the FAA found the geographic coordinates listed in Grant County International Airport's Class D and Class E airspace legal descriptions for Grant County International Airport, Moses Lake VOR/DME, and Fairchild AFB, do not match the FAA's aeronautical database.

Also, an editorial change is made to the Class D and Class E airspace legal descriptions replacing Airport/Facility Directory with the term Chart Supplement, and adds the city name Spokane to Fairchild AFB listed under the header for Grant County International Airport in Class E 700 foot airspace.

Class D and Class E airspace designations are published in paragraph 5000, 6002, 6004, and 6005, respectively, of FAA Order 7400.11A dated August 3, 2016, and effective September 15, 2016, which is incorporated by reference in 14 CFR 71.1. The Class D and Class E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This action amends Title 14, Code of Federal Regulations (14 CFR) part 71 by eliminating the following language from the legal description of Class E airspace designated as an extension to a Class D or Class E surface area at Grant County International Airport, Moses Lake, WA, and Olympia Regional Airport, Olympia, “This Class E airspace is effective during the specific dates and times established in advance by a Notice to Airmen. The effective date and time will thereafter be continuously published in the Airport/Facility Directory.”

Also, this action updates the airport names for Grant County International Airport (formerly Grant County Airport) and Olympia Regional Airport (formerly Olympia Airport). Additionally, this action updates the geographic coordinates for Grant County International Airport, Moses Lake VOR/DME, and Fairchild AFB as listed in the Grant County International Airport Class D and Class E airspace legal descriptions. Lastly, this action replaces the outdated term Airport/Facility Directory with the term Chart Supplement in the Class D and Class E airspace legal descriptions, and adds the city name Spokane to Fairchild AFB listed under the header for Grant County International Airport in Class E airspace extending upward from 700 feet above the surface.

This action is an administrative change and does not affect the boundaries, altitudes, or operating requirements of the airspace. Therefore, notice and public procedure under 5 U.S.C. 553(b) is unnecessary.

Regulatory Notices and Analyses

The FAA has determined that this regulation only involves an established body of technical regulations for which frequent and routine amendments are necessary to keep them operationally current, is non-controversial, and is unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, effective September 15, 2016, is amended as follows:

Paragraph 5000 Class D Airspace.

* * * * *

ANM WA D Moses Lake, WA [Modified]

Grant County International Airport, WA

(Lat. 47°12′31″ N., long. 119°19′09″ W.)

That airspace extending upward from the surface to and including 3,700 feet MSL within a 5.7-mile radius of Grant County International Airport, excluding that airspace within an area bounded by a line beginning at lat. 47°11′31″ N., long. 119°10′59″ W., to lat. 47°09′59″ N., long. 119°14′55″ W., to lat. 47°07′34″ N., long. 119°14′55″ W., thence counterclockwise via a 5.7-mile radius of Grant County International Airport to the point of beginning. This Class D airspace area is effective during the specific dates and times established in advance by a Notice to Airmen. The effective date and time will thereafter be continuously published in the Chart Supplement.

ANM WA D Olympia, WA [Modified]

Olympia Regional Airport, WA

(Lat. 46°58′10″ N., long. 122°54′09″ W.)

That airspace extending upward from the surface to and including 2,700 feet MSL within a 4-mile radius of Olympia Regional Airport. This Class D airspace area is effective during the specific dates and times established in advance by a Notice to Airmen. The effective date and time will thereafter be continuously published in the Chart Supplement.

Paragraph 6002 Class E Airspace Designated as Surface Areas.

* * * * *

ANM WA E2 Moses Lake, WA [Modified]

Grant County International Airport, WA

(Lat. 47°12′31″ N., long. 119°19′09″ W.)

That airspace extending upward from the surface within a 5.7-mile radius of the Grant County International Airport, excluding that airspace within an area bounded by a line beginning at lat. 47°11′31″ N., long. 119°10′59″ W.; to lat. 49°09′59″ N., long. 119°14′55″ W.; to lat. 47°07′34″ N., long. 119°14′55″ W.; thence counterclockwise via a 5.7-mile radius of the Grant County International Airport to the point of beginning. This Class E airspace area is effective during the specific dates and times established in advance by a Notice to Airmen. The effective date and time will thereafter be continuously published in the Chart Supplement.

ANM WA E2 Olympia, WA [Modified]

Olympia Regional Airport, WA

(Lat. 46°58′10″ N., long. 122°54′09″ W.)

Within a 4-mile radius of the Olympia Regional Airport. This Class E airspace area is effective during the specific dates and times established in advance by a Notice to Airmen. The effective date and time will thereafter be continuously published in the Chart Supplement.

Paragraph 6004 Class E Airspace Areas Designated as an Extension to a Class D or Class E Surface Area.

* * * * *

ANM WA E4 Moses Lake, WA [Modified]

Grant County International Airport, WA

(Lat. 47°12′31″ N., long. 119°19′09″ W.)

Ephrata VORTAC

(Lat. 47°22′41″ N., long. 119°25′26″ W.)

Moses Lake VOR/DME

(Lat. 47°12′39″ N., long. 119°19′01″ W.)

That airspace extending upward from the surface within 1.8 miles each side of the Ephrata VORTAC 156° radial extending from the 5.7-mile radius of Grant County International Airport to 2.7 miles southeast of the VORTAC, and within 2.2 miles each side of the Moses Lake VOR/DME 050° radial extending from the 5.7-mile radius of the airport to 13.5 miles northeast of the VOR/DME, and within 3.5 miles each side of the Moses Lake VOR/DME 063° radial extending from the 5.7-mile radius of the airport to 12.9 miles northeast of the VOR/DME, excluding the airspace within the Ephrata Municipal Airport, WA, Class E airspace area.

ANM WA E4 Olympia, WA [Modified]

Olympia Regional Airport, WA

(Lat. 46°58′10″ N., long. 122°54′09″ W.)

Olympia VORTAC

(Lat. 46°58′18″ N., long. 122°54′07″ W.)

That airspace extending upward from the surface within 3.5 miles each side of the Olympia VORTAC 195° radial extending from the 4-mile radius of Olympia Regional Airport to 9.2 miles south of the VORTAC, and within 1.8 miles each side of the Olympia VORTAC 010° radial extending from the 4-mile radius of the airport to 4.8 miles north of the VORTAC.

Paragraph 6005 Class E Airspace Areas Extending Upward From 700 Feet or More Above the Surface of the Earth.

* * * * *

ANM WA E5 Moses Lake, WA [Modified]

Grant County International Airport, WA

(Lat. 47°12′31″ N., long. 119°19′09″ W.)

Ephrata VORTAC

(Lat. 47°22′41″ N., long. 119°25′26″ W.)

Spokane, Fairchild AFB

(Lat. 47°36′54″ N., long. 117°39′21″ W.)

That airspace extending upward from 700 feet above the surface within a 16.6-mile radius of Grant County International Airport, and within a 16.6-mile radius of the Ephrata VORTAC; that airspace extending upward from 1,200 feet above the surface bounded on the north by lat. 47°45′00″ N., on the east by the 45.3-mile radius of Fairchild AFB, on the southeast by V-204, on the south by V-298, and on the west by long. 120°00′04″ W.

Issued in Seattle, Washington, on April 18, 2017.
Sam S.L. Shrimpton,
Acting Group Manager, Operations Support Group, Western Service Center.

[FR Doc. 2017-08241 Filed 4-24-17; 8:45 am]

BILLING CODE 4910-13-P